DEPARTMENT OF AGRICULTURE

Animal and Plant Health Inspection Service

9 CFR Part 1

[Docket No. 99-087-2]

Licensing and Inspection Requirements for Dealers of Dogs Intended for Hunting, Breeding, or Security Purposes

AGENCY: Animal and Plant Health Inspection Service, USDA.

ACTION: Notice of extension of comment period.

SUMMARY: We are extending the comment period for our proposed rule to amend the Animal Welfare regulations to reflect our policy of regulating wholesale dealers of dogs intended for hunting, breeding, or security purposes. This action will allow interested persons additional time to prepare and submit comments.

DATES: We invite you to comment on Docket No. 99-087-1. We will consider all comments that we receive by April 3, 2001.

ADDRESSES: Please send four copies of your comment (an original and three copies) to: Docket No. 99-087-1, Regulatory Analysis and Development, PPD, APHIS, Suite 3C03, 4700 River Road, Unit 118, Riverdale, MD 20737-1238.

Please state that your comment refers to Docket No. 99-087-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Jerry DePoyster, Senior Veterinary Medical Officer, Animal Care, APHIS, 4700 River Road Unit 84, Riverdale, MD 20737-1234; (301) 734-7586.

SUPPLEMENTARY INFORMATION:

Background

On December 4, 2000, we published in the Federal Register (65 FR 75635-75637, Docket No. 99-087-1) a proposal to amend the Animal Welfare regulations to require that only wholesale dealers of hunting, breeding, and security dogs be licensed and inspected. This change would be reflected in the definition for “dealer” in 9 CFR 1.1. This action would bring our regulations into accord with our policy to regulate wholesale dealers of hunting, breeding, and security dogs.

Comments on the proposed rule were required to be received on or before February 2, 2000. We are extending the comment period on Docket No. 99-087-1 for an additional 60 days. This action will allow interested persons additional time to prepare and submit comments.

Authority: 7 U.S.C. 2131-2159; 7 CFR 2.22, 2.80, and 371.7.

Done in Washington, DC, this 16th day of January 2001.
Craig A. Reed,
Administrator, Animal and Plant Health Inspection Service.

[FR Doc. 01-1654 Filed 1-19-01; 8:45 am]

BILLING CODE 3410-34-U